DEPARTMENT OF ENERGY

Federal Energy Regulatory Commission

[Docket No. EL12-1-000]

City of South Daytona, FL; Notice of Petition for Declaratory Order

Take notice that on October 5, 2011, pursuant to Rule 207(a)(2) of the Rules of Practice and Procedure of the Federal Energy Regulatory Commission (Commission), 18 CFR 385.207(a)(2) (2011) and 18 CFR 381.108(a), City of South Daytona, Florida (South Daytona or City), filed a Petition for Declaratory Order, seeking a declaratory order: (1) Finding that the Commission's stranded cost regulations do not apply to a retail-turned-wholesale municipal utility that intends to continue receiving its power supply, albeit at wholesale, from its former retail supplier; and (2) allows exemption as a municipality from the Commission's filing fees.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 4, 2011.

Dated: October 6, 2011.
Kimberly D. Bose,
Secretary.

[FR Doc. 2011-26566 Filed 10-13-11; 8:45 am]

BILLING CODE 6717-01-P